DEPARTMENT OF THE INTERIOR

Bureau of Land Management

[WY-030-1310-DB]

Notice of Availability of the Record of Decision for the Final Environmental Impact Statement, Atlantic Rim Natural Gas Field Development Project, Carbon County, WY

AGENCY: Bureau of Land Management, Interior.

ACTION: Notice of Availability (NOA) of the Record of Decision (ROD) for the Final Environmental Impact Statement for the Atlantic Rim Natural Gas Field Development Project, Carbon County, Wyoming.

SUMMARY: In accordance with the National Environmental Policy Act of 1969, the Bureau of Land Management (BLM) announces the availability of the ROD for the Atlantic Rim Natural Gas Field Development Project, Carbon County, Wyoming.

ADDRESSES: The ROD will be available electronically on the following Web site: http://www.blm.gov/wy/st/en/info/NEPA/rfodocs/atlantic_rim.html. Copies of the ROD are also available for public inspection at the following BLM office locations:

• Bureau of Land Management, Wyoming State Office, 5353 Yellowstone Road, Cheyenne, Wyoming 82003.

• Bureau of Land Management, Rawlins Field Office, 1300 N. Third Street, Rawlins, Wyoming 82301.

FOR FURTHER INFORMATION CONTACT: David Simons, Project Leader, Rawlins Field Office, P.O. Box 2407, Rawlins, Wyoming 82301, telephone (307) 328-4328.

SUPPLEMENTARY INFORMATION: This ROD addresses the Atlantic Rim Natural Gas Field Development Project, located in Carbon County, Wyoming. The Atlantic Rim project encompasses approximately 270,080 acres, of which 173,672 acres are Federal surface (179,438 acres Federal minerals) administered by the BLM Rawlins Field Office; 14,060 acres are State of Wyoming lands (12,384 acres State of Wyoming minerals); and 82,348 acres are private surface (78,258 acres private minerals). Copies of the ROD have been sent to affected Federal, State, and local government agencies and interested parties.

January 31, 2007.
Donald A. Simpson,
Associate State Director.

[FR Doc. E7-9685 Filed 5-18-07; 8:45 am]

BILLING CODE 4310-22-P